DEPARTMENT OF TRANSPORTATION

Federal Aviation Administration

14 CFR Part 39

[Docket No. FAA-2012-0420; Directorate Identifier 2011-NM-284-AD]

RIN 2120-AA64

Airworthiness Directives; Bombardier, Inc. Airplanes

AGENCY: Federal Aviation Administration (FAA), DOT.

ACTION: Notice of proposed rulemaking (NPRM).

SUMMARY: We propose to supersede an existing airworthiness directive (AD) that applies to certain Bombardier, Inc. Model CL-600-2B19 (Regional Jet Series 100 & 440) airplanes. The existing AD currently requires revising certain sections of a certain airplane flight manual, deactivating certain hydraulic accumulators, removing certain hydraulic accumulators, ultrasonic inspections for cracks on accumulators and screw caps and replacement if necessary, and replacing certain accumulators. Since we issued that AD, we have determined that, for certain airplanes, reducing the compliance time for a certain replacement is necessary to ensure that the identified unsafe condition is addressed. This proposed AD would continue to require the existing actions from the existing AD. We are proposing this AD to detect and correct hydraulic accumulator screw cap/end cap failure, which could result in the loss of the associated hydraulic system and high-energy impact damage to adjacent systems and structure, and consequent loss of control of the airplane.

DATES: We must receive comments on this proposed AD by June 4, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; email thd.crj@aero.bombardier.com; Internet http://www.bombardier.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Cesar Gomez, Aerospace Engineer, Airframe and Mechanical Systems Branch, ANE-171, FAA, New York Aircraft Certification Office (ACO), 1600 Stewart Avenue Suite 410, Westbury, New York 11590; telephone (516) 228-7318; fax (516) 794-5531.

SUPPLEMENTARY INFORMATION:

Comments Invited

We invite you to send any written relevant data, views, or arguments about this proposed AD. Send your comments to an address listed under the ADDRESSES section. Include “Docket No. FAA-2012-0420; Directorate Identifier 2011-NM-284-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 20, 2011, we issued AD 2011-23-08, Amendment 39-16859 (76 FR 71241, November 17, 2011). That AD required actions intended to address an unsafe condition on certain Bombardier, Inc. Model CL-600-2B19 (Regional Jet Series 100 & 440) Airplanes.

Since we issued AD 2011-23-08, Amendment 39-16859 (76 FR 71241, November 17, 2011), we have determined that the compliance time specified in paragraph (n) of this proposed AD (referred to as paragraph (q) in AD 2011-23-08) must be clarified. We are including the phrase, “whichever occurs first,” in paragraph (n)(1) of this AD, which requires operators to perform the action at the earlier of the times. We have determined that the proposed reduced compliance time is necessary to address the identified unsafe condition in a timely manner. This compliance time also matches the compliance time given in Canadian Airworthiness Directive CF-2010-24, dated August 3, 2010.

We have also determined that certain phrases need to be added and certain phrases need to be removed from certain credit paragraphs of this AD. We have revised paragraphs (o)(4) and (o)(5) of this proposed AD to specify “before December 22, 2011 (the effective date of AD 2011-23-08, Amendment 39-16859 (76 FR 71241, November 17, 2011)),” instead of “before November 4, 2010.” We have revised paragraph (o)(2) of this AD by removing “hydraulic system No. 1” because the service information in paragraph (o)(2) does not specify to remove the hydraulic system No. 1 accumulator. We have also revised paragraph (o)(2) of this proposed AD by removing Bombardier Service Bulletin 601R-32-107, Revision A, dated June 17, 2010, because credit for that service bulletin is already given in paragraph (m) of this proposed AD. You may obtain further information by examining the MCAI in the AD docket.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Changes to Existing AD

This proposed AD would retain all requirements of AD 2011-23-08, Amendment 39-16859 (76 FR 71241, November 17, 2011). Since AD 2011-23-08 was issued, the AD format has been revised, and certain paragraphs have been rearranged. As a result, the corresponding paragraph identifiers have changed in this proposed AD, as listed in the following table:

Revised Paragraph Identifiers
Requirement in AD 2011-23-08, Amendment 39-16859 (76 FR 71241, November 17, 2011) | Corresponding requirement in this proposed AD
paragraph (l) | paragraph (p)(1)
paragraph (m) | paragraph (p)(2)
paragraph (n) | paragraph (p)(3)
paragraph (o) | paragraph (l)
paragraph (p) | paragraph (m)
paragraph (q) | paragraph (n)
paragraph (r) | paragraph (o)(4)
paragraph (s) | paragraph (o)(5)

We have also revised paragraph (j) (paragraph (j) of AD 2011-23-08, Amendment 39-16859 (76 FR 71241, November 17, 2011)) of this proposed AD to refer to paragraph (k) of this AD instead of paragraph (l)(1) (paragraph (l) of AD 2011-23-08) for the applicable compliance times.

Differences Between This AD and the MCAI or Service Information

The actions specified in Canadian Airworthiness Directive CF-2010-24, dated August 3, 2010, apply only to Tactair accumulators. The actions required by paragraphs (h), (i), and (m) of this proposed AD apply to all accumulators in the positions specified in paragraphs (h), (i), and (l) of this proposed AD.

While Canadian Airworthiness Directive CF-2010-24, dated August 3, 2010, does not require replacement of the reducer of the hydraulic system No. 1 with a new reducer, paragraph (n) of this proposed AD does.

Costs of Compliance

Based on the service information, we estimate that this proposed AD would affect about 605 products of U.S. registry.

The actions that are required by AD 2011-23-08, Amendment 39-16859 (76 FR 71241, November 17, 2011), and retained in this proposed AD take about 33 work-hours per product, at an average labor rate of $85 per work hour. Required parts cost about $3,054 per product. Where the service information lists required parts costs that are covered under warranty, we have assumed that there will be no charge for these parts. As we do not control warranty coverage for affected parties, some parties may incur costs higher than estimated here. Based on these figures, the estimated cost of the currently required actions is $5,859 per product.

The new requirements of this proposed AD add no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-23-08, Amendment 39-16859 (76 FR 71241, November 17, 2011), and adding the following new AD:

Bombardier, Inc.: Docket No. FAA-2012-0420; Directorate Identifier 2011-NM-284-AD.

(a) Comments Due Date

We must receive comments by June 4, 2012.

(b) Affected ADs

This AD supersedes AD 2011-23-08, Amendment 39-16859 (76 FR 71241, November 17, 2011).

(c) Applicability

This AD applies to Bombardier, Inc. Model CL-600-2B19 (Regional Jet Series 100 & 440) airplanes, certificated in any category, serial numbers 7003 and subsequent.

(d) Subject

Air Transport Association (ATA) of America Code 29, Hydraulic Power; 32, Landing Gear.

(e) Reason

This AD was prompted by reports of on-ground hydraulic accumulator screw cap/end cap failure. We are issuing this AD to detect and correct hydraulic accumulator screw cap/end cap failure, which could result in the loss of the associated hydraulic system and high-energy impact damage to adjacent systems and structure, and consequent loss of control of the airplane.

(f) Compliance

You are responsible for having the actions required by this AD performed within the compliance times specified, unless the actions have already been done.

(g) Retained Airplane Flight Manual (AFM) Revision, With Revised Service Information

This paragraph restates the revision required by paragraph (g) of AD 2010-22-02, Amendment 39-16481 (75 FR 64636, October 20, 2010), with revised service information. Within 30 days after November 4, 2010 (the effective date of AD 2010-22-02, Amendment 39-16481 (75 FR 64636, October 20, 2010)), revise the Limitations section, Normal Procedures section, and Abnormal Procedures section of the Canadair Regional Jet AFM, CSP A-012, by incorporating Canadair Regional Jet Temporary Revision (TR) RJ/186-1, dated August 24, 2010, into the applicable section of Canadair Regional Jet AFM, CSP A-012. Thereafter, except as provided by paragraph (p) of this AD, no alternative actions specified in Canadair Regional Jet TR RJ/186-1, dated August 24, 2010, may be approved.

Note 1 to paragraph (g) of this AD: The actions required by paragraph (g) of this AD may be done by inserting a copy of Canadair Regional Jet TR RJ/186-1, dated August 24, 2010, into the applicable section of the Canadair Regional Jet AFM, CSP A-012. When this TR has been included in the general revisions of this AFM, the general revisions may be inserted into this AFM, and this TR removed, provided that the relevant information in the general revision is identical to that in Canadair Regional Jet TR RJ/186-1, dated August 24, 2010.

(h) Retained Deactivation of the Hydraulic System No. 3 Accumulator, With Revised Service Information

This paragraph restates the deactivation required by paragraph (h) of AD 2010-22-02, Amendment 39-16481 (75 FR 64636, October 20, 2010), with revised service information. Within 250 flight cycles after November 4, 2010 (the effective date of AD 2010-22-02), deactivate the hydraulic system No. 3 accumulator, in accordance with Part A of the Accomplishment Instructions of Bombardier Alert Service Bulletin A601R-29-031, Revision A, dated March 26, 2009. Doing the removal of the hydraulic system No. 3 accumulator in paragraph (l) of this AD terminates the requirements of this paragraph. The actions in this paragraph apply to all accumulators in hydraulic system No. 3.

(i) Retained Removal of the Hydraulic System No. 2 Accumulator, With Revised Service Information

This paragraph restates the removal required by paragraph (i) of AD 2010-22-02, Amendment 39-16481 (75 FR 64636, October 20, 2010), with revised service information. Within 500 flight cycles after November 4, 2010 (the effective date of AD 2010-22-02), remove the hydraulic system No. 2 accumulator, in accordance with the Accomplishment Instructions of Bombardier Service Bulletin 601R-29-032, Revision A, dated January 26, 2010. The actions in this paragraph apply to all accumulators in hydraulic system No. 2.

(j) Retained Initial and Repetitive Ultrasonic Inspections of Hydraulic System No. 1, Inboard Brake and Outboard Brake Accumulators, With Revised Service Information

This paragraph restates the initial and repetitive ultrasonic inspections required by paragraph (k) of AD 2010-22-02, Amendment 39-16481 (75 FR 64636, October 20, 2010), with revised service information. For hydraulic system No. 1, inboard brake and outboard brake accumulators having part number (P/N) 601R75138-1 (08-60163-001 or 08-60163-002): At the applicable compliance times specified in paragraph (k) of this AD, do the inspections required by paragraphs (j)(1) and (j)(2) of this AD. Repeat the inspections for each accumulator having P/N 601R75138-1 (08-60163-001 or 08-60163-002) thereafter at intervals not to exceed 500 flight cycles until the replacement specified in this paragraph is done or the replacement specified in paragraph (m) of this AD is done. If any crack is found, before further flight, replace the accumulator with a new accumulator having P/N 601R75138-1 (08-60163-001 or 08-60163-002) and having the letter “T” after the serial number on the identification plate, in accordance with the Accomplishment Instructions of the applicable service bulletin identified in table 1 or table 2 of this AD.

(1) Do an ultrasonic inspection for cracks on each accumulator, in accordance with Part B of the Accomplishment Instructions of the applicable service bulletin identified in table 1 of this AD.

Table 1—Bombardier Service Information for Accumulator Inspection
Accumulator | Document | Revision | Date
Hydraulic System No. 1 | Bombardier Alert Service Bulletin A601R-29-029, including Appendix A, dated October 18, 2007 | B | May 11, 2010.
Inboard and Outboard Brake | Bombardier Alert Service Bulletin A601R-32-103, including Appendix A, Revision A, dated October 18, 2007 | D | May 11, 2010.

(2) Do an ultrasonic inspection for cracks on the screw cap, in accordance with the Accomplishment Instructions of the applicable service bulletin identified in table 2 of this AD.

Table 2—Bombardier Service Information for Screw Cap Inspection
Accumulator | Document | Revision | Date
Hydraulic System No. 1 | Bombardier Service Bulletin 601R-29-033, including Appendix A, dated May 5, 2009 | A | May 11, 2010.
Inboard and Outboard Brake | Bombardier Service Bulletin 601R-32-106, including Appendix A | A | May 11, 2010.

(k) Retained Initial and Repetitive Ultrasonic Inspections of Hydraulic System No. 1, Inboard Brake and Outboard Brake Accumulators, With Revised Service Information

This paragraph restates the initial and repetitive ultrasonic inspections required by paragraph (l) of AD 2010-22-02, Amendment 39-16481 (75 FR 64636, October 20, 2010), with revised service information. For hydraulic system No. 1 inboard brake, and outboard brake accumulators having P/N 601R75138-1 (08-60163-001 or 08-60163-002): Do the inspections specified in paragraph (j) of this AD at the applicable time in paragraph (k)(1), (k)(2), and (k)(3) of this AD.

(1) For any accumulator not having the letter “T” after the serial number on the identification plate and with more than 4,500 flight cycles on the accumulator as of November 4, 2010 (the effective date of AD 2010-22-02, Amendment 39-16481 (75 FR 64636, October 20, 2010)): Inspect within 500 flight cycles after November 4, 2010 (the effective date of AD 2010-22-02).

(2) For any accumulator not having the letter “T” after the serial number on the identification plate and with 4,500 flight cycles or less on the accumulator as of November 4, 2010 (the effective date of AD 2010-22-02, Amendment 39-16481 (75 FR 64636, October 20, 2010)): Inspect prior to the accumulation of 5,000 flight cycles on the accumulator.

(3) If it is not possible to determine the flight cycles accumulated for any accumulator not having the letter “T” after the serial number on the identification plate: Inspect within 500 flight cycles after November 4, 2010 (the effective date of AD 2010-22-02, Amendment 39-16481 (75 FR 64636, October 20, 2010)).

Note 2 to paragraph (j) of this AD: For any accumulator having P/N 601R75138-1 (08-60163-001 or 08-60163-002) and the letter “T” after the serial number on the identification plate, or if the accumulator part number is not listed in paragraph (j) of this AD, the inspection specified in paragraph (j) of this AD is not required.

Table 3—Bombardier Credit Service Information for Accumulator Inspection
Document | Revision | Date
Bombardier Alert Service Bulletin A601R-29-029 |  | October 18, 2007.
Bombardier Alert Service Bulletin A601R-29-029 | A | November 12, 2009.
Bombardier Alert Service Bulletin A601R-32-103 |  | November 21, 2006.
Bombardier Alert Service Bulletin A601R-32-103 | A | March 7, 2007.
Bombardier Alert Service Bulletin A601R-32-103 | B | October 18, 2007.
Bombardier Alert Service Bulletin A601R-32-103 | C | February 26, 2009.

Table 4—Bombardier Credit Service Information for Screw Cap Inspection
Document | Date
Bombardier Service Bulletin 601R-29-033 | May 5, 2009.
Bombardier Service Bulletin 601R-32-106 | May 5, 2009.

(l) Retained Removal of the Hydraulic System No. 3 Accumulator, With No New Service Information

This paragraph restates the removal required by paragraph (o) of AD 2011-23-08, Amendment 39-16859 (76 FR 71241, November 17, 2011), with reduced compliance time for paragraph (n) of this AD, and no new service information. Within 1,000 flight cycles after December 22, 2011 (the effective date of AD 2011-23-08), remove the hydraulic system No. 3 accumulator, in accordance with Part B of the Accomplishment Instructions of Bombardier Alert Service Bulletin A601R-29-031, Revision A, dated March 26, 2009. Doing the action in this paragraph terminates the requirements of paragraph (h) of this AD.

(m) Retained Replacement of the Hydraulic System No. 1, Inboard Brake and Outboard Brake Accumulators, With No New Service Information

This paragraph restates the replacement required by paragraph (p) of AD 2011-23-08, Amendment 39-16859 (76 FR 71241, November 17, 2011), with reduced compliance time for paragraph (o) of this AD, and no new service information. Within 4,000 flight cycles or 24 months after December 22, 2011 (the effective date of AD 2011-23-08), whichever occurs first, replace any hydraulic system No. 1, inboard brake or outboard brake accumulator having P/N 601R75138-1 (08-60163-001 or 08-60163-002), with a new accumulator having P/N 601R75139-1 (11093-4), in accordance with the Accomplishment Instructions of the applicable service bulletin identified in table 5 of this AD. Doing the action in this paragraph terminates the requirement for the inspections in paragraph (j) of this AD for that accumulator. As of December 22, 2011 (the effective date of AD 2011-23-08), use only Bombardier Service Bulletin 601R-29-035, Revision A, dated December 8, 2010; or Bombardier Service Bulletin 601R-32-107, Revision B, dated December 8, 2010; as applicable.

Table 5—Bombardier Service Information for Accumulator Replacement
Accumulator | Document | Revision | Date
Hydraulic System No. 1 | Bombardier Service Bulletin 601R-29-035 |  | May 11, 2010.
Hydraulic System No. 1 | Bombardier Service Bulletin 601R-29-035 | A | December 8, 2010.
Inboard and Outboard Brake | Bombardier Service Bulletin 601R-32-107 | A | June 17, 2010.
Inboard and Outboard Brake | Bombardier Service Bulletin 601R-32-107 | B | December 8, 2010.

(n) Retained Action for Airplanes on Which Bombardier Service Bulletin 601R-29-035, Dated May 11, 2010, Is Done and Reducer Having P/N MS21916D8-6 is Installed, With No New Service Information

This paragraph restates the action required by paragraph (q) of AD 2011-23-08, Amendment 39-16859 (76 FR 71241, November 17, 2011), with reduced compliance time for paragraph (n) of this AD, and no new service information. For airplanes on which Bombardier Service Bulletin 601R-29-035, dated May 11, 2010, is done, and reducer having P/N MS21916D8-6 is installed: At the later of the times specified in paragraph (n)(1) or (n)(2) of this AD: Replace the reducer of the hydraulic system No. 1 with a new reducer, in accordance with Part B of Bombardier Service Bulletin 601R-29-035, Revision A, dated December 8, 2010.

(1) Within 1,200 flight cycles or 8 months after December 22, 2011 (the effective date of AD 2011-23-08, Amendment 39-16859 (76 FR 71241, November 17, 2011)), whichever occurs first.

(2) Within 60 days after the effective date of this AD.

(o) Credit for Previous Actions

(1) This paragraph provides credit for deactivating the hydraulic system No. 3 accumulator, as required by paragraph (h) of this AD, if the deactivation was performed before November 4, 2010 (the effective date of AD 2010-22-02, Amendment 39-16481 (75 FR 64636, October 20, 2010)) using Bombardier Alert Service Bulletin A601R-29-031, dated December 23, 2008.

(2) This paragraph provides credit for removing the hydraulic system No. 2 accumulator as required by paragraph (i) of this AD, if the removal was performed before November 4, 2010 (the effective date of AD 2010-22-02, Amendment 39-16481 (75 FR 64636, October 20, 2010)) using Bombardier Service Bulletin 601R-29-032, dated November 12, 2009.

(3) This paragraph provides credit for an ultrasonic inspection for cracks as required by paragraph (j) of this AD, if the ultrasonic inspection was performed before November 4, 2010 (the effective date of AD 2010-22-02, Amendment 39-16481 (75 FR 64636, October 20, 2010)), using the applicable service bulletin identified in table 3 of this AD, or the applicable service bulletin identified in table 4 of this AD.

(4) This paragraph provides credit for removing the hydraulic system No. 3 accumulator as required by paragraph (l) of this AD, if the removal was performed before December 22, 2011 (the effective date of AD 2011-23-08, Amendment 39-16859 (76 FR 71241, November 17, 2011)), using Bombardier Alert Service Bulletin A601R-29-031, dated December 23, 2008.

(5) This paragraph provides credit for replacing any inboard brake or outboard brake accumulator as required by paragraph (m) of this AD, if the replacement was performed before December 22, 2011 (the effective date of AD 2011-23-08, Amendment 39-16859 (76 FR 71241, November 17, 2011)), using Bombardier Service Bulletin 601R-32-107, dated May 11, 2010.

(p) Other FAA AD Provisions

The following provisions also apply to this AD:

(1) Alternative Methods of Compliance (AMOCs): The Manager, New York Aircraft Certification Office, (ACO), ANE-170, FAA, has the authority to approve AMOCs for this AD, if requested using the procedures found in 14 CFR 39.19. In accordance with 14 CFR 39.19, send your request to your principal inspector or local Flight Standards District Office, as appropriate. If sending information directly to the NYACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD. AMOCs approved previously in accordance with AD 2010-22-02, Amendment 39-16481 (75 FR 64636, October 20, 2010), are approved as AMOCs for the corresponding provisions of this AD. AMOCs approved previously in accordance with AD 2011-23-08, Amendment 39-16859 (76 FR 71241, November 17, 2011), are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(q) Related Information

Refer to MCAI Canadian Airworthiness Directive CF-2010-24, dated August 3, 2010; and the service bulletins specified in paragraphs (q)(1), (q)(2), (q)(3), (q)(4), (q)(5), (q)(6), (q)(7), (q)(8), and (q)(9) of this AD; for related information.

(1) Canadair Regional Jet Temporary Revision RJ/186-1, dated August 24, 2010, to the Canadair Regional Jet Airplane Flight Manual, CSP A-012.

(2) Bombardier Alert Service Bulletin A601R-29-029, Revision B, dated May 11, 2010, including Appendix A, dated October 18, 2007.

(3) Bombardier Alert Service Bulletin A601R-29-031, Revision A, dated March 26, 2009.

(4) Bombardier Alert Service Bulletin A601R-32-103, Revision D, dated May 11, 2010, including Appendix A, Revision A, dated October 18, 2007.

(5) Bombardier Service Bulletin 601R-29-032, Revision A, dated January 26, 2010.

(6) Bombardier Service Bulletin 601R-29-033, Revision A, dated May 11, 2010, including Appendix A, dated May 5, 2009.

(7) Bombardier Service Bulletin 601R-29-035, Revision A, dated December 8, 2010.

(8) Bombardier Service Bulletin 601R-32-106, Revision A, including Appendix A, dated May 11, 2010.

(9) Bombardier Service Bulletin 601R-32-107, Revision B, dated December 8, 2010.

Issued in Renton, Washington, on April 11, 2012.
John P. Piccola,
Acting Manager, Transport Airplane Directorate, Aircraft Certification Service.

[FR Doc. 2012-9477 Filed 4-18-12; 8:45 am]

BILLING CODE 4910-13-P